DEPARTMENT OF COMMERCE

National Oceanic and Atmospheric Administration

50 CFR Part 679

[Docket No. 200221-0062]

RTID 0648-XA647

Fisheries of the Exclusive Economic Zone Off Alaska; Reallocation of Pacific Cod in the Central Regulatory Area of the Gulf of Alaska

AGENCY: National Marine Fisheries Service (NMFS), National Oceanic and Atmospheric Administration (NOAA), Commerce.

ACTION: Temporary rule; reallocation.

SUMMARY: NMFS is reallocating the projected unused amounts of Pacific cod total allowable catch (TAC) from catcher/processors using hook-and-line gear, catcher vessels less than 50 feet using hook-and-line gear, catcher vessels greater than or equal to 50 feet using hook-and-line gear, and vessels using pot gear to catcher vessels using trawl gear and catcher/processors using trawl gear in the Central Regulatory Area of the Gulf of Alaska (GOA). This action is necessary to allow the 2020 TAC of Pacific cod in the Central Regulatory Area of the GOA to be harvested.

DATES: Effective December 2, 2020 through 2,400 hours, Alaska local time (A.l.t.), December 31, 2020.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2020 Pacific cod TAC specified for catcher/processors using hook-and-line gear in the Central Regulatory Area of the GOA is 192 metric tons (mt) as established by the final 2020 and 2021 harvest specifications for groundfish of the GOA (85 FR 13802, March 10, 2020).

The 2020 Pacific cod TAC specified for catcher vessels less than 50 feet using hook-and-line gear in the Central Regulatory Area of the GOA is 550 mt as established by the final 2020 and 2021 harvest specifications for groundfish of the GOA (85 FR 13802, March 10, 2020).

The 2020 Pacific cod TAC specified for catcher vessels greater than or equal to 50 feet using hook-and-line gear in the Central Regulatory Area of the GOA is 253 mt as established by the final 2020 and 2021 harvest specifications for groundfish of the GOA (85 FR 13802, March 10, 2020).

The 2020 Pacific cod TAC specified for vessels using pot gear in the Central Regulatory Area of the GOA is 1,048 mt as established by the final 2020 and 2021 harvest specifications for groundfish of the GOA (85 FR 13802, March 10, 2020).

The 2020 Pacific cod TAC specified for catcher/processors using trawl gear in the Central Regulatory Area of the GOA is 158 mt as established by the final 2020 and 2021 harvest specifications for groundfish of the GOA (85 FR 13802, March 10, 2020).

The 2020 Pacific cod TAC apportioned to catcher vessels using trawl gear in the Central Regulatory Area of the GOA is 1,567 mt, as established by the final 2020 and 2021 harvest specifications for groundfish of the GOA (85 FR 13802, March 10, 2020).

The Administrator, Alaska Region, NMFS, (Regional Administrator) has determined that catcher/processors using hook-and-line gear will not be able to use 180 mt, catcher vessels less than 50 feet using hook-and-line gear will not be able to use 460 mt, catcher vessels greater than or equal to 50 feet using hook-and-line gear will not be able to use 100 mt, and vessels using pot gear will not be able to harvest 1,040 mt of the 2020 Pacific cod TAC allocated to those vessels under § 679.20(a)(12)(i)(B)(1) to (3) and (6).

In accordance with § 679.20(a)(12)(ii)(B), the Regional Administrator has also determined that catcher vessels using trawl gear and catcher/processors using trawl gear currently have the capacity to harvest this excess allocation. Therefore, NMFS apportions 1,780 mt of Pacific cod from the catcher/processors using hook-and-line gear, catcher vessels less than 50 feet using hook-and-line gear, catcher vessels greater than or equal to 50 feet using hook-and-line gear, and vessels using pot gear apportionments to catcher vessels using trawl gear and catcher/processors using trawl gear in the Central Regulatory Area of the GOA.

The harvest specifications for Pacific cod in the Central Regulatory Area of the GOA included in the final 2020 and 2021 harvest specifications for groundfish of the GOA (85 FR 13802, March 10, 2020) are revised as follows: 12 mt to catcher/processors using hook-and-line gear, 90 mt to catcher vessels less than 50 feet using hook-and-line gear, 153 mt to catcher vessels greater than or equal to 50 feet using hook-and-line gear, 8 mt to vessels using pot gear, 2,521 mt to catcher vessels using trawl gear, and 838 mt to catcher/processors using trawl gear.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the reallocation of Pacific cod in the Central Regulatory Area of the GOA. NMFS was unable to publish a notice providing time for public comment because the most recent, relevant data only became available as of November 25, 2020.

Authority: 16 U.S.C. 1801 et seq.

Dated: November 27, 2020.
Kelly Denit,
Director, Office of Sustainable Fisheries, National Marine Fisheries Service.

[FR Doc. 2020-26573 Filed 12-1-20; 8:45 am]

BILLING CODE 3510-22-P